NATIONAL FOUNDATION ON THE ARTS AND THE HUMANITIES

Institute of Museum and Library Services

Notice of Proposed Information Collection Requests: Improving Customer Experience (OMB Circular A-11, Section 280 Implementation)

AGENCY: Institute of Museum and Library Services, National Foundation on the Arts and the Humanities.

ACTION: Notice, request for comments.

SUMMARY: The Institute of Museum and Library Services (IMLS) as part of its continuing effort to reduce paperwork and respondent burden, is announcing an opportunity for public comment on the renewal of a proposed collection of information by the Agency. Under the Paperwork Reduction Act of 1995 (PRA), Federal Agencies are required to publish notice in the Federal Register concerning each proposed collection of information, and to allow 60 days for public comment in response to the notice. This Notice solicits comments on a renewal of a collection to gather customer and stakeholder feedback via customer interviews, feedback surveys, and rapid feedback user testing of website experiences to improve customer experience with IMLS services of various kinds. For more information on the types of proposed information collection requests IMLS may make under this clearance, contact the individual listed below in the FOR FURTHER INFORMATION CONTACT section of this Notice.

DATES: Written comments must be submitted to the office listed in the addressee section below on or before July 22, 2024.

ADDRESSES: Send comments to Julie Balutis, Director of Grants Policy and Management, Office of Grants Policy and Management, Institute of Museum and Library Services, 955 L'Enfant Plaza North, SW, Suite 4000, Washington, DC 20024-2135. Ms. Balutis can be reached by telephone: 202-653-4645, or by email at jbalutis@imls.gov. Office hours are from 8:30 a.m. to 5 p.m., E.T., Monday through Friday, except federal holidays. Persons who are deaf or hard of hearing (TTY users) can contact IMLS at 202-207-7858 via 711 for TTY-Based Telecommunications Relay Service.

FOR FURTHER INFORMATION CONTACT: Requests for additional information should be directed to Todd Rubin, Office of Management and Budget, 725 17th St. NW, Washington, DC 20006, 202-881-6991, via email to todd.w.rubin2@omb.eop.gov.

I. Background

Whether seeking a loan, Social Security benefits, veterans' benefits, or other services provided by the Federal Government, individuals and businesses expect Government customer services to be efficient and intuitive, just like services from leading private-sector organizations. Yet the 2016 American Consumer Satisfaction Index and the 2017 Forrester Federal Customer Experience Index show that, on average, Government services lag nine percentage points behind the private sector. A modern, streamlined and responsive customer experience means: raising government-wide customer experience to the average of the private sector service industry; developing indicators for high-impact Federal programs to monitor progress towards excellent customer experience and mature digital services; and providing the structure (including increasing transparency) and resources to ensure customer experience is a focal point for agency leadership.

II. Current Actions

IMLS is requesting renewal of an existing collection to gather customer feedback and improve customer experience in alignment with OMB Circular A-11 Section 280. OMB Circular A-11 Section 280 established government-wide standards for mature customer experience organizations in government and measurement. To enable Federal programs to deliver the experience taxpayers deserve, they must undertake three general categories of activities: conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. IMLS will limit its inquiries to data collections that solicit strictly voluntary opinions or responses. Steps will be taken to ensure anonymity of respondents in each activity covered by this request.

The results of the data collected will be used to improve the delivery of Federal services and programs. It will include the creation of personas, customer journey maps, and reports and summaries of customer feedback data and user insights. It will also provide government-wide data on customer experience that can be displayed on performance.gov to help build transparency and accountability of Federal programs to the customers they serve.

Agency: Institute of Museum and Library Services.

Title: Improving Customer Experience (OMB Circular A-11, Section 280 Implementation).

OMB Control Number: 3137-0130.

Agency Number: 3137.

Respondents/Affected Public: Collections will be targeted to the solicitation of opinions from respondents who have experience with the program or may have experience with the program in the near future. For the purposes of this request, “customers” are individuals, businesses, and organizations that interact with IMLS or one of its programs, either directly or via a Federal contractor. This could include individuals or households; businesses or other for-profit organizations; not-for-profit institutions; State, local or Tribal governments; Federal government; and Universities.

Total Estimated Number of Annual Respondents: 5,000.

Frequency of Response: Once per respondent per request.

Estimated Average Burden Hours per Response: Varied, dependent upon the data collection method used. The possible response time to complete a questionnaire or survey may be 3 minutes or up to 2 hours to participate in an interview.

Total Estimated Number of Annual Burden Hours: 450.

Estimated Total Annual Cost to Public: $0.

Public Comments Invited: IMLS is particularly interested in public comments that help the agency to determine: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this Notice will be summarized and/or included in the request for OMB's clearance of this information collection.

Dated: May 17, 2024.
Suzanne Mbollo,
Grants Management Specialist, Institute of Museum and Library Services.

[FR Doc. 2024-11235 Filed 5-21-24; 8:45 am]

BILLING CODE 7036-01-P